SECURITIES AND EXCHANGE COMMISSION

Sunshine Act Meetings

TIME AND DATE: Notice is hereby given, pursuant to the provisions of the Government in the Sunshine Act, Public Law 94-409, that the Securities and Exchange Commission Small Business Capital Formation Advisory Committee will hold a public meeting on Tuesday, February 27, 2024, at the Commission's headquarters and via videoconference.

PLACE: The meeting will be hybrid, with some Committee members attending by remote means (videoconference) and others in-person at the Commission's headquarters, 100 F Street NE, Washington, DC 20549, in the Multi-Purpose Room LL-006. Members of the public may watch the webcast of the meeting on the Commission's website at www.sec.gov.

STATUS: The meeting will begin at 10:00 a.m. (ET) and will be open to the public via webcast on the Commission's website at www.sec.gov. This Sunshine Act notice is being issued because a majority of the Commission may attend the meeting.

MATTERS TO BE CONSIDERED: The agenda for the meeting includes matters relating to rules and regulations affecting small and emerging businesses and their investors under the federal securities laws.

CONTACT PERSON FOR MORE INFORMATION: For further information; please contact Vanessa A. Countryman from the Office of the Secretary at (202) 551-5400.

Authority: 5 U.S.C. 552b.

Dated: January 29, 2024.
Vanessa A. Countryman,
Secretary.

[FR Doc. 2024-02041 Filed 1-29-24; 4:15 pm]

BILLING CODE 8011-01-P